DEPARTMENT OF ENERGY

10 CFR Part 430

[EERE-2020-BT-STD-0001]

RIN 1904-AE86

Energy Conservation Program: Energy Conservation Standards for Clothes Washers and Clothes Dryers

AGENCY: Office of Energy Efficiency and Renewable Energy, Department of Energy.

ACTION: Extension of public comment period; notification of public hearing.

SUMMARY: The U.S. Department of Energy (“DOE”) is extending the public comment period for the notice of proposed rulemaking (“NOPR”) which DOE proposes to establish separate product classes for top-loading residential clothes washers and consumer clothes dryers that offer cycle times for a normal cycle of less than 30 minutes, and for front-loading residential clothes washers that offer cycle times for a normal cycle of less than 45 minutes. DOE published the NOPR in the Federal Register on August 13, 2020, establishing a public comment period that ends on September 14, 2020. In this document, DOE is extending the comment period to October 13, 2020 and announcing a public hearing on September 30, 2020.

DATES: Comments: The comment period for the NOPR published on August 13, 2020 (85 FR 49297), is extended. DOE will accept comments, data, and information regarding the NOPR received no later than October 13, 2020.

Meeting: DOE will hold a webinar on Wednesday, September 30, 2020 from 12:00 p.m. to 4:00 p.m. See “Public Participation,” for webinar registration information, participant instructions, and information about the capabilities available to webinar participants. If no participants register for the webinar, then it will be cancelled.

ADDRESSES: Interested persons are encouraged to submit comments using the Federal eRulemaking Portal at http://www.regulations.gov. Follow the instructions for submitting comments. Alternatively, interested persons may submit comments, identified by docket number EERE-2020-BT-STD-0001, by any of the following methods:

1. Federal eRulemaking Portal: http://www.regulations.gov. Follow the instructions for submitting comments.

2. Email: ConsumerWashersDryers2020STD0001@ee.doe.gov. Include the docket number EERE-2020-BT-STD-0001 in the subject line of the message.

3. Postal Mail: Appliance and Equipment Standards Program, U.S. Department of Energy, Building Technologies Office, Mailstop EE-5B, 1000 Independence Avenue SW, Washington, DC 20585-0121. Telephone: (202) 287-1445. If possible, please submit all items on a compact disc (CD), in which case it is not necessary to include printed copies.

4. Hand Delivery/Courier: Appliance and Equipment Standards Program, U.S. Department of Energy, Building Technologies Office, 950 L'Enfant Plaza, SW, 6th Floor, Washington, DC 20024. Telephone: (202) 287-1445. If possible, please submit all items on a CD, in which case it is not necessary to include printed copies.

5. No telefacsimilies (faxes) will be accepted.

Docket: The docket for this activity, which includes Federal Register notices, comments, and other supporting documents/materials, is available for review at http://www.regulations.gov. All documents in the docket are listed in the http://www.regulations.gov index. However, some documents listed in the index, such as those containing information that is exempt from public disclosure, may not be publicly available.

The docket web page can be found at https://www.regulations.gov/docket?D=EERE-2020-BT-STD-0001. The docket web page contains instructions on how to access all documents, including public comments in the docket.

FOR FURTHER INFORMATION CONTACT: Mr. Bryan Berringer, U.S. Department of Energy, Office of Energy Efficiency and Renewable Energy, Building Technologies Office, EE-5B, 1000 Independence Avenue SW, Washington, DC 20585-0121. Telephone: (202) 586-0371. Email: ApplianceStandardsQuestions@ee.doe.gov.

Ms. Elizabeth Kohl, U.S. Department of Energy, Office of the General Counsel, GC-33, 1000 Independence Avenue SW, Washington, DC 20585-0121. Telephone: (202) 586-7796. Email: Elizabeth.Kohl@hq.doe.gov.

For further information on how to submit a comment or review other public comments and the docket contact the Appliance and Equipment Standards Program staff at (202) 287-1445 or by email: ApplianceStandardsQuestions@ee.doe.gov.

SUPPLEMENTARY INFORMATION:

On August 13, 2020, the U.S. Department of Energy (DOE) published a document in the Federal Register soliciting public comment on a NOPR regarding energy conservation standards for clothes washers and clothes dryers which DOE proposes to establish separate product classes for top-loading residential clothes washers and consumer clothes dryers that offer cycle times for a normal cycle of less than 30 minutes, and for front-loading residential clothes washers that offer cycle times for a normal cycle of less than 45 minutes. 85 FR 49297. Comments were originally due by September 14, 2020, though an incorrect reference to October 13, 2020 was also included in Section V. of the NOPR. On August 27, 2020, DOE received a joint comment from Sierra Club, Appliance Standards Awareness Project, Consumer Federation of America, and Earthjustice asking for clarification of the comment period deadline; requesting an extension of the comment period to November 12, 2020; and requesting a public hearing (see https://www.regulations.gov/document?D=EERE-2020-BT-STD-0001-0003). On September 1, 2020, DOE also received a request from the Association of Home Appliance Manufacturers to extend the comment period by 30 days (see https://www.regulations.gov/document?D=EERE-2020-BT-STD-0001-0005). DOE has reviewed these requests and considered the benefit to stakeholders in providing additional time to review the NOPR, and gather information/data that DOE is seeking. Accordingly, DOE extends the comment period until October 13, 2020. In addition, DOE will be holding a webinar on September 30, 2020.

Public Participation

DOE invites public participation in this process through participation in the webinar and submission of written comments and information. After the webinar and the closing of the comment period, DOE will consider all timely-submitted comments and additional information obtained from interested parties, as well as information obtained through further analyses.

Participation in the Webinar

The time and date of the webinar are listed in the DATES section at the beginning of this document. If no participants register for the webinar, then it will be cancelled.

Webinar registration information, participant instructions, and information about the capabilities available to webinar participants will be published on DOE's website: https://cms.doe.gov/eere/buildings/public-meetings-and-comment-deadlines. Participants are responsible for ensuring their systems are compatible with the webinar software.

DOE encourages those who wish to participate in the webinar to obtain the NOPR from DOE's website and to be prepared to discuss its contents. Once again, a copy of the NOPR is available at: https://www.regulations.gov/docket?D=EERE-2020-BT-STD-0001.

Signing Authority

This document of the Department of Energy was signed on September 3, 2020, by Alexander N. Fitzsimmons, Deputy Assistant Secretary for Energy Efficiency, Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on September 3, 2020.
Treena V. Garrett,
Federal Register Liaison Officer, U.S. Department of Energy.

[FR Doc. 2020-19927 Filed 9-10-20; 8:45 am]

BILLING CODE 6450-01-P